Title 3—

The President

Proclamation 7771 of April 13, 2004

Pan American Day and Pan American Week, 2004

By the President of the United States of America

A Proclamation

Each year on Pan American Day and during Pan American Week, we honor the bonds of friendship that unite the Pan American community. With the exception of one country, the nations of the Western Hemisphere recognize the importance of working together to strengthen democratic institutions, promote economic prosperity, invest in our people, and improve our security. At the recent 2004 Special Summit of the Americas, the 34 democratic nations of the Western Hemisphere reaffirmed their commitment to the Inter-American Democratic Charter to defend democracy and freedom whenever they are threatened. Our unity and support of democratic institutions, constitutional processes, and basic liberties give hope and strength to those struggling around the world.

The nations of the Western Hemisphere will continue to draw upon the Charter to strengthen the rule of law, protect human rights and freedoms, encourage economic growth, and promote good governance. As neighbors, we are expanding prosperity through open markets and economic reforms—creating new opportunities for millions of people and continued economic progress benefiting the nations of our hemisphere. My Administration will continue to work toward the creation of the Free Trade Area of the Americas, scheduled for completion in 2005.

To protect the rights and freedoms of all our citizens, the Pan American community must also combat the forces that threaten democracy: terrorism, drug trafficking, and other crimes that transcend national borders. The Declaration on Security in the Americas, adopted at the October 2003 Organization of American States Special Conference on Security, underscores our hemisphere's interest in collectively maintaining peace and security across the Americas. The United States welcomes the opportunity to work with our neighbors to advance the Declaration's goals to safeguard our citizens as we build for a future that is peaceful, just, and prosperous.

NOW, THEREFORE, I, GEORGE W. BUSH, President of the United States of America, by virtue of the authority vested in me by the Constitution and laws of the United States, do hereby proclaim April 14, 2004, as Pan American Day and April 11 through April 17, 2004, as Pan American Week. I urge the Governors of the 50 States, the Governor of the Commonwealth of Puerto Rico, and the officials of other areas under the flag of the United States of America to honor these observances with appropriate ceremonies and activities.

IN WITNESS WHEREOF, I have hereunto set my hand this thirteenth day of April, in the year of our Lord two thousand four, and of the Independence of the United States of America the two hundred and twenty-eighth.

B

[FR Doc. 04-8834

Filed 4-15-04; 8:45 am]

Billing code 3195-01-P